DEPARTMENT OF TRANSPORTATION

Federal Aviation Administration

14 CFR Part 39

[Docket No. FAA-2013-0997; Directorate Identifier 2013-CE-044-AD; Amendment 39-17759; AD 2014-04-01]

RIN 2120-AA64

Airworthiness Directives; Slingsby Aviation Ltd. Airplanes

AGENCY: Federal Aviation Administration (FAA), Department of Transportation (DOT).

ACTION: Final rule.

SUMMARY: We are adopting a new airworthiness directive (AD) for all Slingsby Aviation Ltd. Model T67M260 airplanes. This AD results from mandatory continuing airworthiness information (MCAI) issued by an aviation authority of another country to identify and correct an unsafe condition on an aviation product. The MCAI describes the unsafe condition as cracked horizontal stabilizer attachment brackets. We are issuing this AD to require actions to address the unsafe condition on these products.

DATES: This AD is effective April 1, 2014.

The Director of the Federal Register approved the incorporation by reference of a certain publication listed in this AD as of April 1, 2014.

ADDRESSES: You may examine the AD docket on the Internet at http://www.regulations.gov/#!docketDetail;D=FAA-2013-0997; or in person at Document Management Facility, U.S. Department of Transportation, Docket Operations, M-30, West Building Ground Floor, Room W12-140, 1200 New Jersey Avenue SE., Washington, DC 20590.

For service information identified in this AD, contact Slingsby Advanced Composites, Ings Lane, Kirbymoorside, York, YO62 6EZ, United Kingdom, telephone: +44 (0) 1751 432474; fax +44 (0) 1751 433016, Internet: www.marshall-slingsby.com. You may view this referenced service information at the FAA, Small Airplane Directorate, 901 Locust, Kansas City, Missouri 64106. For information on the availability of this material at the FAA, call (816) 329-4148.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 to include an AD that would apply to all Slingsby Aviation Ltd. Model T67M260 airplanes. That NPRM was published in the Federal Register on November 21, 2013 (78 FR 69785). That NPRM proposed to correct an unsafe condition for the specified products and was based on mandatory continuing airworthiness information (MCAI) originated by an aviation authority of another country. The MCAI states:

Several cases have been reported of cracked horizontal stabiliser attachment brackets on Slingsby T67 aeroplanes.

This condition, if not detected and corrected, could lead to separation of the horizontal stabiliser and consequent loss of control of the aeroplane.

Prompted by these reports, Slingsby issued Service Bulletin (SB) 179 to provide instructions for repetitive inspections. The CAA UK, the State of Design authority at the time, issued AD 001-12-2002,which was later superseded by AD G-2005-0004 (EASA approval 2005-564) to require repetitive inspections and, depending on findings, replacement of the affected brackets.

Since that AD was issued, Slingsby published SB 179 issue 4, which removed the Model T67M260-T3A from the Applicability (all aeroplanes of this Model are confirmed to have been scrapped) and clarified that replacement of the affected aluminum brackets with titanium brackets (Slingsby Modification M988A or B) constitutes terminating action for the repetitive inspections.

For the reasons described above, this AD retains the requirements of CAA UK AD G-2005-0004, which is superseded, removes the Model T67M260-T3A from the Applicability and confirms that installing titanium brackets constitutes terminating action for the repetitive inspection requirements of this AD.

The MCAI can be found in the AD docket on the Internet at http://www.regulations.gov/#!documentDetail;D=FAA-2013-0997-0002.

Comments

We gave the public the opportunity to participate in developing this AD. We received no comments on the NPRM (78 FR 69785, November 21, 2013) or on the determination of the cost to the public.

Conclusion

We reviewed the relevant data and determined that air safety and the public interest require adopting this AD as proposed except for minor editorial changes. We have determined that these minor changes:

• Are consistent with the intent that was proposed in the NPRM (78 FR 69785, November 21, 2013) for correcting the unsafe condition; and

• Do not add any additional burden upon the public than was already proposed in the NPRM (78 FR 69785, November 21, 2013).

Costs of Compliance

We estimate that this AD will affect 11 products of U.S. registry. We also estimate that it will take about 2 work-hours per product to comply with the basic inspection of the aluminum horizontal stabilizer attachment brackets requirement of this AD. The average labor rate is $85 per work-hour.

Based on these figures, we estimate the cost of this AD on U.S. operators to be $1,870, or $170 per product.

In addition, we estimate that any necessary follow-on actions will take about 8 work-hours and require parts costing $7,250 (for all four titanium horizontal stabilizer attachment brackets), for a cost of $7,930 per product, or parts costing $9,557 (for all four aluminum horizontal stabilizer attachment brackets), for a cost of $10,237. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating it in Docket No. FAA-2013-0997; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-04-01 Slingsby Aviation Ltd.: Amendment 39-17759; Docket No. FAA-2013-0997; Directorate Identifier 2013-CE-044-AD.

(a) Effective Date

This airworthiness directive (AD) becomes effective April 1, 2014.

(b) Affected ADs

None.

(c) Applicability

This AD applies to Slingsby Aviation Ltd. Model T67M260 airplanes, all serial numbers, certificated in any category.

(d) Subject

Air Transport Association of America (ATA) Code 55: Stabilizers.

(e) Reason

This AD was prompted by mandatory continuing airworthiness information (MCAI) originated by an aviation authority of another country to identify and correct an unsafe condition on an aviation product. The MCAI describes the unsafe condition as cracked horizontal stabilizer attachment brackets. We are issuing this AD to prevent separation of the horizontal stabilizer, which could result in loss of control.

(f) Actions and Compliance

Unless already done, do the actions specified in paragraphs (f)(1) through (f)(4) of this AD:

(1) Within the next 150 hours time-in-service (TIS) after April 1, 2014 (the effective date of this AD) or at the next annual inspection after April 1, 2014 (the effective date of this AD), whichever occurs later, and repetitively thereafter at intervals not to exceed 150 hours TIS, inspect the aluminum horizontal stabilizer attachment brackets for cracks. Do the inspections following the ACTION instructions in Slingsby Advanced Composites Ltd. Service Bulletin S.B. No: 179, Issue 4, dated March 15, 2007.

(2) If any cracks are found during any inspection required in paragraph (f)(1) of this AD, before further flight, replace the cracked bracket with a serviceable part. Do the replacement following the ACTION instructions in Slingsby Advanced Composites Ltd. Service Bulletin S.B. No: 179, Issue 4, dated March 15, 2007. If a serviceable aluminum horizontal stabilizer attachment bracket is used as a replacement part, repetitively inspect as specified in paragraph (f)(1) of this AD.

(3) To terminate the repetitive inspections required in paragraph (f)(1) of this AD, all four aluminum horizontal stabilizer attachment brackets must be replaced with titanium horizontal stabilizer attachment brackets.

(4) After installing titanium horizontal stabilizer attachment brackets, installing aluminum horizontal stabilizer attachment brackets is prohibited.

(g) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to European Aviation Safety Agency (EASA) AD No. 2012-0169, dated August 31, 2012, for related information. You may examine the MCAI on the Internet at at http://www.regulations.gov/#!documentDetail;D=FAA-2013-0997-0002.

(i) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Slingsby Advanced Composites Ltd. Service Bulletin S.B. No: 179, Issue 4, dated March 15, 2007.

(ii) Reserved.

(3) For Slingsby Aviation Ltd. service information identified in this AD, contact Slingsby Advanced Composites, Ings Lane, Kirbymoorside, York, YO62 6EZ, United Kingdom, telephone: +44 (0) 1751 432474; fax +44 (0) 1751 433016, Internet: www.marshall-slingsby.com.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on February 10, 2014.
Steven W. Thompson,
Acting Manager, Small Airplane Directorate, Aircraft Certification Service.

[FR Doc. 2014-03421 Filed 2-24-14; 8:45 am]

BILLING CODE 4910-13-P